DEPARTMENT OF LABOR

Office of the Secretary

Submission for OMB Review; Comment Request

October 1, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail: King-Darrin@dol.gov.

Comments should be sent to Office of Information and Regulatory Affairs, Attn: Stuart Shapiro, OMB Desk Officer for MSHA, Office of Management and Budget, Room 10235, Washington, DC 20503 ((202) 395-7316), within 30 days from the date of this publication in the Federal Register.

The OMB is particularly interested in comments which:

* evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Record of Results of Examinations of Self-Rescuers, Underground Coal Mines—30 CFR 75.1714-3(e).

OMB Number: 1219-0044.

Affected Public: Business or other for-profit.

Type of Response: Recordkeeping.

Frequency: Quarterly.

Number of Respondents: 887.

Number of Annual Responses: 236,632.

Estimated Time Per Response: 30 minutes to certify an examination and 1 minute to document why a devise is taken out of service.

Total Burden Hours: 118,268.

Total Annualized Capital/Startup Costs: $0.

Total Annual Costs (operating/maintaining systems or purchasing services): $0.

Description: 30 CFR 75.1714-3(e) requires underground coal mine operators to keep records of the corrective actions taken as a result of required examinations of self-rescue devices. The information is used to insure that the examinations are conducted and that the devises are in operable and usable condition in the event of an emergency.

Ira Mills,
Departmental Clearance Officer.

[FR Doc. 01-25348 Filed 10-9-01; 8:45 am]

BILLING CODE 4510-43-M